ENVIRONMENTAL PROTECTION AGENCY

[EPA-HQ-OPP-2019-0045; FRL-10004-59]

Pesticide Product Registration; Receipt of Applications for New Uses (December 2019)

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before April 1, 2020.

ADDRESSES: Submit your comments, identified by the docket identification (ID) number and the File Symbol or the EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Numbers: 100-759, 100-953 and 100-1454. Docket ID number: EPA-HQ-OPP-2019-0659. Applicant: Syngenta Crop Protection, 410 Swing Road, Greensboro, NC 27409. Active ingredient: Fludioxonil. Product type: Fungicide. Proposed use: Brassica leafy greens subgroup 4-16B, vegetable, head and stem brassica, group 5-16, and kohlrabi. Contact: RD.

2. EPA Registration Number: 100-1469. Docket ID number: EPA-HQ-OPP-2019-0691. Applicant: Syngenta Crop Protection, LLC, 410 South Swing Rd., Greensboro, NC 27409. Active ingredient: Aspergillus flavus strain NRRL 21882. Product type: Fungicide. Proposed use: Almond and pistachio. Contact: BPPD.

3. EPA Registration Numbers: 100-1609 and 100-1648. Docket ID number: EPA-HQ-OPP-2019-0608. Applicant: Syngenta Crop Protection, LLC., P.O. Box 18300, Greensboro, NC 27419. Active ingredient: Pydiflumetofen. Product type: Fungicide. Proposed uses: Seed treatment for barley, corn, cotton crop subgroup 20C, dried shelled pea and bean crop subgroup 6C, oat, peanut, rye, sorghum, triticale, and wheat. Contact: RD.

4. EPA Registration Numbers: 432-RARE, 264-824. Docket ID number: EPA-HQ-OPP-2019-0671. Applicant: Bayer CropScience LP, Environmental Science Division, 5000 Centre Green Way, Suite 400, Cary, NC 27513. Active ingredient: Prothioconazole. Product type: Fungicide. Proposed uses: Golf course turf. Contact: RD.

5. EPA Registration Number: 7969-275. Docket ID number: EPA-HQ-OPP-2019-0388. Applicant: Interregional Research Project #4 (IR-4), 500 College Rd. East, Suite 201, Princeton, NJ 08540. Active ingredient: Saflufenacil. Product type: Herbicide. Proposed use: Manufacturing products for use on fig trees, caneberry subgroup 13-07A, and chia. Contact: RD.

6. EPA Registration Number: 7969-276. Docket ID number: EPA-HQ-OPP-2019-0388. Applicant: Interregional Research Project #4 (IR-4), 500 College Rd. East, Suite 201, Princeton, NJ 08540. Active ingredient: Saflufenacil. Product type: Herbicide. Proposed use: Fig trees, Caneberry subgroup 13-07A. Contact: RD.

7. EPA Registration Number: 7969-278. Docket ID number: EPA-HQ-OPP-2019-0388. Applicant: Interregional Research Project #4 (IR-4), 500 College Rd. East, Suite 201, Princeton, NJ 08540. Active ingredient: Saflufenacil. Product type: Herbicide. Proposed use: Chia. Contact: RD.

8. EPA Registration Numbers: 62719-144, 62719-659. Docket ID number: EPA-HQ-OPP-2019-0070. Applicant: Dow AgroSciences LLC., 9330 Zionsville Road, Indianapolis, IN 46268. Active ingredient: Isoxaben. Product type: Herbicide. Proposed use: Hop, dried cones, and caneberry subgroup 13-07. Contact: RD.

9. EPA Registration Number: 92960-R. Docket ID number: EPA-HQ-OPP-2019-0672. Applicant: Germains Seed Technology, Inc., 8333 Swanston Lane, Gilroy, CA 95020. Active ingredient: Copper hydroxide. Product type: Fungicide. Proposed Uses: Seed treatment on corn (field, sweet, popcorn); oats; peanuts; soybeans; succulent and dry broad bean (fava bean); succulent and dry chickpea (garbanzo bean); succulent and dry guar bean; succulent and dry jackbean; succulent and dry lablab bean (hyacinth bean); succulent and dry Lupinus spp. (includes grain lupin, sweet lupin, white lupin, and white sweet lupin); succulent and dry peas (including dwarf pea, edible pod pea, English pea, field pea, garden pea, green pea, snow pea, sugar snap pea); succulent and dry Phaseolus spp. (includes field bean, kidney bean, lima bean, navy bean, pinto bean, runner bean, snap bean, tepary bean, wax bean); succulent and dry Vigna spp. (includes adzuki bean, asparagus bean, blackeyed pea, catjang, Chinese longbean, cowpea, crowder pea, moth bean, mung bean, rice bean, southern pea, urd bean, yardlong bean). Contact: RD.

(Authority: 7 U.S.C. 136 et seq.)

Dated: January 24, 2020.
Delores Barber,
Director, Information Technology and Resources Management Division, Office of Pesticide Programs.

[FR Doc. 2020-04209 Filed 2-28-20; 8:45 am]

BILLING CODE 6560-50-P